DEPARTMENT OF ENERGY

Federal Energy Regulatory Commission

Combined Notice of Filings #1

Take notice that the Commission received the following electric corporate filings:

Docket Numbers: EC22-72-000.

Applicants: NorthWestern Corporation.

Description: NorthWestern Corporation submits supplemental filing, providing draft accounting entries that will be filed in final form for Reconstructing.

Filed Date: 9/7/22.

Accession Number: 20220907-5116.

Comment Date: 5 p.m. ET 9/28/22.

Docket Numbers: EC22-123-000.

Applicants: Flat Ridge 2 Wind Energy LLC, Flat Ridge Interconnection LLC.

Description: Joint Application for Authorization Under Section 203 of the Federal Power Act of Flat Ridge 2 Wind Energy LLC, et al.

Filed Date: 9/21/22.

Accession Number: 20220921-5131.

Comment Date: 5 p.m. ET 10/12/22.

Take notice that the Commission received the following exempt wholesale generator filings:

Docket Numbers: EG22-225-000.

Applicants: Yellowbud Solar, LLC.

Description: Yellowbud Solar, LLC submits Notice of Self-Certification of Exempt Wholesale Generator Status.

Filed Date: 9/22/22.

Accession Number: 20220922-5096.

Comment Date: 5 p.m. ET 10/13/22.

Take notice that the Commission received the following Complaints and Compliance filings in EL Dockets:

Docket Numbers: EL22-89-000.

Applicants: Cage Ranch Solar, LLC and Cage Ranch Solar II, LLC Vs. Southwest Power Pool, Inc.

Description: Complaint of Cage Ranch Solar, LLC and Cage Ranch Solar II, LLC v. Southwest Power Pool, Inc.

Filed Date: 9/20/22.

Accession Number: 20220920-5130.

Comment Date: 5 p.m. ET 10/11/22.

Take notice that the Commission received the following electric rate filings:

Docket Numbers: ER11-2514-006.

Applicants: PEI Power II, LLC.

Description: Compliance filing: PEI Power II MBR Change in Category to be effective 9/23/2022.

Filed Date: 9/22/22.

Accession Number: 20220922-5022.

Comment Date: 5 p.m. ET 10/13/22.

Docket Numbers: ER11-3108-002.

Applicants: Innovative Energy Systems, LLC.

Description: Compliance filing: Innovative Energy Systems MBR Change in Category to be effective 9/23/2022.

Filed Date: 9/22/22.

Accession Number: 20220922-5023.

Comment Date: 5 p.m. ET 10/13/22.

Docket Numbers: ER11-3109-002.

Applicants: Seneca Energy, II LLC.

Description: Compliance filing: Seneca MBR Change in Category Filing to be effective 9/23/2022.

Filed Date: 9/22/22.

Accession Number: 20220922-5025.

Comment Date: 5 p.m. ET 10/13/22.

Docket Numbers: ER22-1990-000.

Applicants: DTE Electric Company.

Description: Refund Report: Refund Report Filing to be effective N/A.

Filed Date: 9/22/22.

Accession Number: 20220922-5131.

Comment Date: 5 p.m. ET 10/13/22.

Docket Numbers: ER22-2806-001.

Applicants: American Electric Power Service Corporation, Appalachian Power Company, PJM Interconnection, L.L.C.

Description: Tariff Amendment: American Electric Power Service Corporation submits tariff filing per 35.17(b): AEP submits amendment to amended ILDSA, SA No. 1252 in ER22-2806 to be effective 9/1/2022.

Filed Date: 9/22/22.

Accession Number: 20220922-5102.

Comment Date: 5 p.m. ET 10/13/22.

Docket Numbers: ER22-2901-000.

Applicants: Carthage Energy, LLC.

Description: § 205(d) Rate Filing: Normal filing 2022 to be effective 9/23/2022.

Filed Date: 9/22/22.

Accession Number: 20220922-5055.

Comment Date: 5 p.m. ET 10/13/22.

Docket Numbers: ER22-2902-000.

Applicants: Power City Partners, L.P.

Description: § 205(d) Rate Filing: Normal filing 2022 to be effective 9/23/2022.

Filed Date: 9/22/22.

Accession Number: 20220922-5056.

Comment Date: 5 p.m. ET 10/13/22.

Docket Numbers: ER22-2903-000.

Applicants: Arizona Public Service Company.

Description: § 205(d) Rate Filing: Rate Schedule No. 313, WAPA Relay Replacement to be effective 11/22/2022.

Filed Date: 9/22/22.

Accession Number: 20220922-5101.

Comment Date: 5 p.m. ET 10/13/22.

Docket Numbers: ER22-2904-000.

Applicants: Blackwell Solar, LLC.

Description: § 205(d) Rate Filing: Blackwell Solar MBR Tariff Amendment Filing to be effective 11/22/2022.

Filed Date: 9/22/22.

Accession Number: 20220922-5106.

Comment Date: 5 p.m. ET 10/13/22.

Docket Numbers: ER22-2905-000.

Applicants: Campo Verde Solar, LLC.

Description: § 205(d) Rate Filing: Amendment to Campo Verde MBR Tariff to be effective 11/22/2022.

Filed Date: 9/22/22.

Accession Number: 20220922-5108.

Comment Date: 5 p.m. ET 10/13/22.

Docket Numbers: ER22-2906-000.

Applicants: SP Cimarron I, LLC.

Description: § 205(d) Rate Filing: SP Cimarron I MBR Tariff Amendment to be effective 11/22/2022.

Filed Date: 9/22/22.

Accession Number: 20220922-5109.

Comment Date: 5 p.m. ET 10/13/22.

Docket Numbers: ER22-2907-000.

Applicants: Desert Stateline LLC.

Description: § 205(d) Rate Filing: Desert Stateline MBR Tariff Amendment Filing to be effective 11/22/2022.

Filed Date: 9/22/22.

Accession Number: 20220922-5110.

Comment Date: 5 p.m. ET 10/13/22.

Docket Numbers: ER22-2908-000.

Applicants: RE Garland LLC.

Description: § 205(d) Rate Filing: RE Garland MBR Tariff Amendment Filing to be effective 11/22/2022.

Filed Date: 9/22/22.

Accession Number: 20220922-5111.

Comment Date: 5 p.m. ET 10/13/22.

Docket Numbers: ER22-2909-000.

Applicants: RE Garland A LLC.

Description: § 205(d) Rate Filing: RE Garland A MBR Tariff Amendment Filing to be effective 11/22/2022.

Filed Date: 9/22/22.

Accession Number: 20220922-5114.

Comment Date: 5 p.m. ET 10/13/22.

Docket Numbers: ER22-2910-000.

Applicants: Grant Wind, LLC.

Description: § 205(d) Rate Filing: Grant Wind MBR Tariff Amendment to be effective 11/22/2022.

Filed Date: 9/22/22.

Accession Number: 20220922-5115.

Comment Date: 5 p.m. ET 10/13/22.

Docket Numbers: ER22-2911-000.

Applicants: Kay Wind, LLC.

Description: § 205(d) Rate Filing: Amendment of Kay Wind MBR Tariff to be effective 11/22/2022.

Filed Date: 9/22/22.

Accession Number: 20220922-5116.

Comment Date: 5 p.m. ET 10/13/22.

Docket Numbers: ER22-2912-000.

Applicants: Lost Hills Solar, LLC.

Description: § 205(d) Rate Filing: Lost Hills Solar MBR Tariff Amendment Filing to be effective 11/22/2022.

Filed Date: 9/22/22.

Accession Number: 20220922-5117.

Comment Date: 5 p.m. ET 10/13/22.

Docket Numbers: ER22-2913-000.

Applicants: Macho Springs Solar, LLC.

Description: § 205(d) Rate Filing: Amendment to Macho Springs MBR Tariff Filing to be effective 11/22/2022.

Filed Date: 9/22/22.

Accession Number: 20220922-5118.

Comment Date: 5 p.m. ET 10/13/22.

Docket Numbers: ER22-2914-000.

Applicants: Mesquite Solar 4, LLC.

Description: Baseline eTariff Filing: Application for Market-Based Rate Authorization and Request for Waivers to be effective 11/22/2022.

Filed Date: 9/22/22.

Accession Number: 20220922-5119.

Comment Date: 5 p.m. ET 10/13/22.

Docket Numbers: ER22-2915-000.

Applicants: North Star Solar, LLC.

Description: § 205(d) Rate Filing: North Star Solar MBR Tariff Amendment to be effective 11/22/2022.

Filed Date: 9/22/22.

Accession Number: 20220922-5120.

Comment Date: 5 p.m. ET 10/13/22.

Docket Numbers: ER22-2916-000.

Applicants: Mesquite Solar 5, LLC.

Description: Baseline eTariff Filing: Application for Market-Based Rate Authorization and Request for Waivers to be effective 11/22/2022.

Filed Date: 9/22/22.

Accession Number: 20220922-5121.

Comment Date: 5 p.m. ET 10/13/22.

Docket Numbers: ER22-2917-000.

Applicants: Passadumkeag Windpark, LLC.

Description: § 205(d) Rate Filing: Passadumkeag MBR Tariff Amendment to be effective 11/22/2022.

Filed Date: 9/22/22.

Accession Number: 20220922-5122.

Comment Date: 5 p.m. ET 10/13/22.

Docket Numbers: ER22-2918-000.

Applicants: SG2 Imperial Valley LLC.

Description: § 205(d) Rate Filing: Amendment to SG2 MBR Tariff Filing to be effective 11/22/2022.

Filed Date: 9/22/22.

Accession Number: 20220922-5123.

Comment Date: 5 p.m. ET 10/13/22.

Docket Numbers: ER22-2919-000.

Applicants: Spectrum Nevada Solar, LLC.

Description: § 205(d) Rate Filing: Amendment to Spectrum Nevada MBR Tariff to be effective 11/22/2022.

Filed Date: 9/22/22.

Accession Number: 20220922-5125.

Comment Date: 5 p.m. ET 10/13/22.

Docket Numbers: ER22-2920-000.

Applicants: RE Tranquillity LLC.

Description: § 205(d) Rate Filing: RE Tranquillity MBR Tariff Amendment Filing to be effective 11/22/2022.

Filed Date: 9/22/22.

Accession Number: 20220922-5127.

Comment Date: 5 p.m. ET 10/13/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: September 22, 2022.
Debbie-Anne A. Reese,
Deputy Secretary.

[FR Doc. 2022-21000 Filed 9-27-22; 8:45 am]

BILLING CODE 6717-01-P